DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee Meeting.

SUMMARY: FMCSA announces that the Motor Carrier Safety Advisory Committee (MCSAC) will hold a committee meeting on January 6, 2009. The meeting is open to the public.

DATES: The meeting will be held by conference call on January 6, 2009, from 11 a.m. to 12:30 p.m. Eastern Time.

Matters To Be Considered: The MCSAC will continue its work on Task 09-01 (Developing a National Agenda for Motor Carrier Safety).

FOR FURTHER INFORMATION CONTACT: Mr. Jeffrey Miller, Chief, Strategic Planning and Program Evaluation Division, Office of Policy Plans and Regulation, Federal Motor Carrier Safety Administration, U.S. Department of Transportation, 1200 New Jersey Avenue, SE., Washington, DC 20590, (202) 366-1258, mcsac@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish in FMCSA, a Motor Carrier Safety Advisory Committee. The advisory committee provides advice and recommendations to the FMCSA Administrator on motor carrier safety programs and motor carrier safety regulations. The advisory committee operates in accordance with the Federal Advisory Committee Act (5 U.S.C. App 2).

II. Meeting Participation

The meeting is open to the public and FMCSA invites participation by all interested parties, including motor carriers, drivers, and representatives of motor carrier associations. For information on the agenda, bridge line and web link for the conference call, please send an e-mail to mcsac@dot.gov. For information on services for individuals with disabilities or to request special assistance, please e-mail your request to mcsac@dot.gov by January 2, 2009. Please note that oral comments will not be taken from the public due to time limitations. Members of the public are encouraged to submit written comments by January 2, 2009, identified by Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue, SE., West Building, Room W12-140, Washington, DC 20590.

• Hand Delivery: U.S. Department of Transportation, 1200 New Jersey Avenue, SE., Room W12-140, Washington, DC, between 9 a.m. and 5 p.m., Monday through Friday, except Federal holidays.

Issued on: December 16, 2008.
Larry W. Minor,
Associate Administrator for Policy and Program Development.

[FR Doc. E8-30386 Filed 12-19-08; 8:45 am]

BILLING CODE 4910-EX-P